DEPARTMENT OF AGRICULTURE

Animal and Plant Health Inspection Service

[Docket No. APHIS-2013-0012]

Notice of Request for Extension of Approval of an Information Collection; Commercial Transportation of Equines for Slaughter

AGENCY: Animal and Plant Health Inspection Service, USDA.

ACTION: Extension of approval of an information collection; comment request.

SUMMARY: In accordance with the Paperwork Reduction Act of 1995, this notice announces the Animal and Plant Health Inspection Service's intention to request an extension of approval of an information collection associated with the regulations for the commercial transportation of equines to slaughtering facilities.

DATES: We will consider all comments that we receive on or before July 8, 2013.

ADDRESSES: You may submit comments by either of the following methods:

• Federal eRulemaking Portal: Go to http://www.regulations.gov/#!documentDetail;D=APHIS-2013-0012-0001.

• Postal Mail/Commercial Delivery: Send your comment to Docket No. APHIS-2013-0012, Regulatory Analysis and Development, PPD, APHIS, Station 3A-03.8, 4700 River Road Unit 118, Riverdale, MD 20737-1238.

Supporting documents and any comments we receive on this docket may be viewed at http://www.regulations.gov/#!docketDetail;D=APHIS-2013-0012 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the regulations for the commercial transportation of equines to slaughtering facilities, contact Dr. P. Gary Egrie, Veterinary Medical Officer, VS, APHIS, 4700 River Road Unit 33, Riverdale MD 20737; (301) 851-3304. For copies of more detailed information on the information collection, contact Mrs. Celeste Sickles, APHIS' Information Collection Coordinator, at (301) 851-2908.

SUPPLEMENTARY INFORMATION: Title: Commercial Transportation of Equines for Slaughter.

OMB Number: 0579-0160.

Type of Request: Extension of approval of an information collection.

Abstract: Under the Federal Agriculture Improvement and Reform Act of 1996 (“the Farm Bill”), Congress gave responsibility to the Secretary of Agriculture to regulate the commercial transportation within the United States of equines for slaughter. Sections 901-905 of the Farm Bill (7 U.S.C. 1901 note) authorized the Secretary to issue guidelines for the regulation of commercial transportation of equines for slaughter by persons regularly engaged in that activity within the United States. As a result of that authority, the U.S. Department of Agriculture (USDA), Animal and Plant Health Inspection Service (APHIS) established regulations in 9 CFR part 88, “Commercial Transportation of Equines for Slaughter.”

The minimum standards for transportation cover, among other things, the food, water, and rest provided to such equines. The regulations also require the owner/shipper of the equines to take certain actions in loading and transporting the equines and to certify that the commercial transportation meets certain requirements. In addition, the regulations prohibit the commercial transportation to slaughtering facilities of equines considered to be unfit for travel, the use of electric prods on such animals in commercial transportation to slaughter, and the use of double-deck trailers for commercial transportation of equines to slaughtering facilities.

These regulations require several information collection activities, including a USDA-APHIS Owner/Shipper Certificate Fitness to Travel to a Slaughter Facility Form/Continuation Sheet (Veterinary Services-VS Forms 10-13/10-13A), the collection of business information from any individual or other entity found to be transporting horses to a slaughtering facility, and recordkeeping.

Since the last approval of these collection activities, APHIS amended its regulations to require that owners/shippers complete VS Forms 10-13/10-13A for each movement of horses between assembly points. APHIS believes that, on average, a horse bound for slaughter will make at least one stop at an assembly point within the United States before final transport to slaughter. As a consequence, APHIS estimates that this will result in an increase in the number of responses submitted annually from 6,700 to 13,100, and increase the number of total burden hours from 2,603 to 9,803. However, this increase in burden hours also reflects reevaluation by APHIS of the time necessary for respondents to complete the forms and the time for respondents to inspect the horses prior to completion of the form, which was not previously accounted for by APHIS.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.7483 hours per response.

Respondents: Owners and shippers of slaughter horses, owners/operators of slaughtering facilities, and drivers of the transport vehicles.

Estimated annual number of respondents: 300.

Estimated annual number of responses per respondent: 43.666.

Estimated annual number of responses: 13,100.

Estimated total annual burden on respondents: 9,803 hours. (Due to averaging, the total annual burden hours may not equal the product of the annual number of responses multiplied by the reporting burden per response.)

All responses to this notice will be summarized and included in the request for OMB approval. All comments will also become a matter of public record.

Done in Washington, DC, this 3rd day of May 2013.
Kevin Shea,
Acting Administrator, Animal and Plant Health Inspection Service.

[FR Doc. 2013-11027 Filed 5-8-13; 8:45 am]

BILLING CODE 3410-34-P